DEPARTMENT OF HEALTH AND HUMAN SERVICES

National Institutes of Health

Proposed Collection; Comment Request; Physicians' Experience of Ethical Dilemmas and Resource Allocation

SUMMARY: In compliance with the requirement of section 3506(c)(2)(A) of the Paperwork Reduction Act of 1995, for opportunity for public comment on proposed data collection projects, the National institute of Dental and Craniofacial Research (NIDCR), the National Institutes of Health (NIH) will publish periodic summaries of proposed projects to be submitted to the Office of Management and Budget (OMB) for review and approval.

Proposed Collection: Title: Physicians' Experience of Ethical Dilemmas and Resource Allocation. Type of Information Collection Request: New. Need and Use of Information Collection: Health care costs are rising ceaselessly and there are currently no generally accepted way of controlling them. This study will access the experience of physicians regarding resource allocation in clinical practice, and how allocation decisions made at other levels shapes this experience. The primary objectives of the study are to determine if physicians make decisions to withhold interventions on the basis of cost, how often they report doing so, what types of care are withheld, and what criteria are used in making such decisions. The findings will provide valuable information concerning: (1) The practice if resource allocation in clinical practice, (2) the possible effects of perceived constraints on this practice, and (3) international comparisons on these two aspects. Frequency of Response: Once. Affected Public: Individuals or households; businesses or other for-profit; not-for-profit institutions. Type of Respondents: Physicians. The annual reporting burden is as follows: Estimated number of Respondents: 250; Estimated Number of Responses per Respondent: 1; Average Burden Hours Per Response: .0.3674; and Estimated Total Annual Burden Hours Requested: 91.85. The annualized cost to respondents is estimated at: $5,218. There are no capital costs, operating costs and/or maintenance costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Samia Hurst, Department of Clinical Bioethics, Building 10, room 1C118, National Institutes of Health, Bethesda, MD 20892, or call non-toll-free number (301) 435-8713 or E-mail your request, including your address to: shurst@cc.nih.gov.

Comments Due Date: Comments regarding this information collection are best assured of having their full effect if received within 60-days of the date of this publication.

Dated: May 29, 2003.
David K. Henderson,
Deputy Director, Warren G. Magnuson Clinical Center, National Institutes of Health.
Ezekiel J. Emanuel,
Director, Department of Clinical Bioethics, Warren G. Magnuson Clinical Center, National Institutes of Health.

[FR Doc. 03-15372 Filed 6-17-03; 8:45 am]

BILLING CODE 4140-01-M